DEPARTMENT OF STATE

[Public Notice: 12537]

Proposed Establishment of Federally Funded Research and Development Centers—Supplemental Notice

ACTION: Notice.

SUMMARY: The United States Department of State (DoS), Bureau of Administration, intends to sponsor Federally Funded Research and Development Centers (FFRDC) to facilitate public-private collaboration for numerous activities related to diplomacy and modernization. This is a supplemental notice to address outstanding public comments received through August 15, 2024.

DATES: Written comments are now closed. This will be the fourth (4th) and final notice in this series.

SUPPLEMENTARY INFORMATION: The Department of State leads US engagement around the world building alliances and partnerships; facing up to aggression; aiding and supporting emerging democracies; and preserving US interests abroad. In a rapidly changing world with shifting politics, accelerated economic developments, global challenges such as climate change, and the increasing role digitization plays for both opportunity and threats, the Department is committed to leading through both policy and operational engagement on behalf of the nation and our government.

In a letter introducing the Department of State and U.S. Agency for International Development Joint Strategic Plan for 2022-2026, Secretary Blinken stated, “we are working to modernize and equip the Department and USAID to lead on 21st-Century challenges and deliver for the American people.”

Achieving U.S. goals for global leadership over the next decade will require the following:

• A diplomatic corps to use data in new ways to develop more foresight and insight, to inform policy options, to take actions and measure their effectiveness;

• New cross-sector partnerships and coalitions;

• Intergovernmental partnerships with the Department of Defense, the intelligence agencies, the Departments of Commerce, Treasury, Homeland Security, and Health and Human Services, and cross-government Councils (e.g., National Economic Council, National Security Council);

• New capabilities to plan, manage and execute initiatives and programs;

• A workforce that uses digital technology as tools to advance democracy and protect our interests and counter the use of these same technologies as a threat; and

• An organization and operation that is agile and adaptive to a changing environment; attractive to new talent; and fosters long-term commitment between the organization and its people.

The Department requires long-term partnerships with organizations that can bring research, development, innovation, and support needed to guide the leadership and employees through this transformative period in our history. This will allow the Department to focus on the mission at hand, while adopting and integrating changes necessary to make consistent progress on these goals and surge, when needed, to address urgent issues that require data, partnerships, technology and insights applied in near-term operational situations.

To meet this need, the Department seeks to establish and sponsor one FFRDC under the authority of 48 CFR 35.017.

FFRDC Focus Areas

The FFRDC will be available to provide a wide range of support including, but not limited to the activities listed below:

• Diplomatic Innovation and Modernization (DIM)

The purpose of the DIM is to strengthen global engagement and humanitarian outcomes by pioneering research and development initiatives that address emerging threats and foster international cooperation.

• Global CyberTech Solutions (GCS)

The purpose of the GCS is to enhance global stability through cutting edge research and development in IT, cyber defense, systems engineering, and data analytics.

• Global Operations and Acquisitions (GOA)

The purpose of the GOA is to advance diplomatic effectiveness through collaborative and cutting-edge acquisition methodologies and tools, and data assessments of broad scale Departments needs, international cooperation, and innovative operational practices.

The FFRDC will partner with the Department of State in the design and pursuit of mission goals; provide rapid responsiveness to changing requirements for personnel in all aspects of strategic, technical and program management; recognize Government objectives as its own objectives; partner in pursuit of excellence in public service; and allow for use of the FFRDC by non-sponsors. The Department is publishing this notice in accordance with 48 CFR 5.205(b) of the Federal Acquisition Regulations (FAR).

Planned Request for Information/Sources Sought Notice

Based on public comments from the first three notices, the Department has issued a Request for Information/Sources Sought notice via SAM.gov. That notice along with all response instructions can be found at the following link: https://SAM.gov/opp/1550c30441fc4879a3b6b5bbbca729f0/view.

Public Comments

During the comment period from May 17-August 15, 2024, the Department submitted three notices for publication, which were subsequently posted; however, due to the publishing delay for the third notice, the Department is publishing this supplemental notice to address comments received between August 9 and August 15, 2024.

The Department received seventeen (17) comments during this portion of the public comment period. Three (3) comments were received via the Federal Register public comment function without content or without context for the information received. The remaining comments have been addressed as described below:

Eleven (11) comments expressed interest in submitting responses, capabilities, or eventually proposals for the FFRDCs. The Department appreciates the interest from industry and looks forward to these organizations' responses to the Sources Sought Notice.

Two (2) comments voiced concerns about the scope and clarity of the focus areas. The Federal Register notices included a high-level list of focus areas. The detailed list of functional areas is fully presented in the Draft Scope of Services document attached to the Sources Sought Notice. This should provide insight into the full scope of the FFRDC program. The Department is conducting market research internally and externally to continue to solidify the final scope of the FFRDC to ensure the most effective FFRDC support.

Six (6) of the commenters provided feedback on the focus areas listed in the previous notices. The Department appreciates this thoughtful input, and the draft Scope of Services document attached to the Sources Sought Notice reflects the Department's consideration of these suggestions. The Department will continue to analyze this feedback with other market research information to ensure the most precise and accurate FFRDC scope definition prior to formal solicitation.

The Department also received six (6) responses that provided input on the FFRDC structure in areas such as procurement considerations, number of centers, sponsoring bureaus, and governance processes. The Department will continue to evaluate this feedback to determine internally the ideal processes to govern the FFRDC.

Michael W. Derrios,
Deputy Assistant Secretary for Acquisition & Senior Procurement Executive, U.S. Department of State.

[FR Doc. 2024-20919 Filed 9-13-24; 8:45 am]

BILLING CODE 4710-24-P